DEPARTMENT OF THE INTERIOR

Bureau of Land Management

[WY-060-1320-EL) WYW150210, WYW150318, WYW151134, WYW151643, WYW154001]

Notice of Availability of South Powder River Basin Coal Final Environmental Impact Statement, Wyoming

AGENCY: Bureau of Land Management, Interior.

ACTION: Notice of Availability (NOA) of a Final Environmental Impact Statement (FEIS) on four maintenance lease applications received for five Federal coal tracts in the decertified Powder River Federal Coal Production Region, Wyoming.

SUMMARY: Under the National Environmental Policy Act (NEPA), implementing regulations and other applicable statutes the Bureau of Land Management (BLM) announces the availability of the South Powder River Basin Coal FEIS.

The FEIS analyzes the impacts of issuing five Federal coal leases in the Wyoming portion of the Powder River Basin. The tracts are being considered for sale as a result of coal lease applications received from existing companies operating mines in the Wyoming Powder River Basin.

DATES: Written comments on the FEIS will be accepted for 30 days following the date that the Environmental Protection Agency (EPA) publishes their NOA of the FEIS in the Federal Register. The BLM will notify all parties on this project's mailing list of the dates when comments will be accepted.

ADDRESSES: Please address questions, comments, or concerns to the Casper Field Office, Bureau of Land Management, Attn: Nancy Doelger, 2987 Prospector Drive, Casper, Wyoming 82604, fax them to (307) 261-7587, or send e-mail comments to the attention of Nancy Doelger at wymail@blm.gov. Copies of the FEIS are available for public inspection at the following BLM office locations: Bureau of Land Management, Wyoming State Office, 5353 Yellowstone Road, Cheyenne, Wyoming 82009; Bureau of Land Management, Casper Field Office, 2987 Prospector Lane, Casper, Wyoming 82604.

FOR FURTHER INFORMATION CONTACT: Nancy Doelger or Mike Karbs at the above address, or telephone: (307) 261-7600.

SUPPLEMENTARY INFORMATION: The five Federal coal tracts being considered for leasing are adjacent to four mines located south and east of Wright, Wyoming. The operators of these mines applied to lease the tracts as maintenance tracts to extend the life of their existing mining operations under the provisions of the Leasing on Application regulations at 43 CFR 3425. The following paragraphs provide descriptions of the tracts as they were applied for.

On March 10, 2000, Powder River Coal Company applied for a maintenance coal lease for approximately 4,500 acres (approximately 564 million tons of recoverable coal) in two tracts adjacent to the North Antelope/Rochelle Mine Complex in Campbell County, Wyoming. The tracts, which are referred to as the NARO North Lease by Application (LBA) Tract and the NARO South LBA Tract, were assigned case numbers WYW150210 and WYW154001, respectively:

NARO North—WYW150210

T. 42 N., R. 70 W., 6th PM, Wyoming,

Sec. 28: Lots 5 thru 16;

Sec. 29: Lots 5 thru 16;

Sec. 30: Lots 9 thru 20;

T. 42 N., R. 71 W., 6th PM, Wyoming,

Sec. 25: Lots 5 thru 15;

Sec. 26: Lots 7 thru 10;

Sec. 35: Lots 1, 2, 7 thru 10, 15, 16.

Containing 2,369.38 acres, more or less.

NARO South—WYW 154001

T. 41 N., R. 70 W., 6th PM, Wyoming,

Sec. 19: Lots 6 thru 11, 12 (S½), 13 thru 20;

Sec. 20: Lots 5 (S½, 6 (S½), 7 (S½), 6 (S½), 8 (S½), 9 thru 16;

Sec. 21: Lots 5 (S½), 12, 13;

Sec. 28: Lots 3 thru 6, 11, NE¼SW¼;

Sec. 29: Lots 1 thru 12;

Sec. 30: Lots 5 thru 12;

Containing 2,133.635 acres, more or less.

On March 23, 2000, Ark Land Company applied for a maintenance coal lease for approximately 2,799.5 acres (approximately 383.6 million in-place tons of coal) adjacent to the Black Thunder Mine in Campbell County, Wyoming. The tract, which is referred to as the Little Thunder LBA Tract, was assigned case number WYW150318. According to the application, the coal is needed to maintain existing mining operations at the Black Thunder Mine and would be used for electric power generation. On June 14, 2001, Ark Land Company filed an application to modify the Little Thunder LBA Tract. As currently filed, the tract includes approximately 3449.3 acres and 440 million tons of recoverable coal reserves.

Little Thunder—WYW150318

T. 43 N., R. 71 W., 6th PM, Wyoming,

Sec. 2: Lots 5, 6, 11 thru 14, 19, 20;

Sec. 11: Lots 1, 2, 7 thru 10, 15, 16;

Sec. 12: Lots 2 (W½ & SE¼), 3 thru 16;

Sec. 13: Lots 1 thru 16;

Sec. 14: Lots 1, 2, 6 thru 9, 14, 15;

Sec. 24: Lots 1 thru 16;

Sec. 25: Lots 1, 2, 7 thru 10, 15, 16.

T. 44 N., R. 71 W., 6th PM, Wyoming,

Sec. 35: Lots 1, 2, 7 thru 10, 15, 16.

Containing 3,449.317 acres, more or less.

On July 28, 2000, Triton Coal Company applied for a maintenance coal lease for approximately 1870.6 acres (approximately 173.2 million in-place tons of coal) adjacent to the North Rochelle Mine in Campbell County, Wyoming. The tract, which is referred to as the West Roundup LBA Tract, was assigned case number WYW151134.

West Roundup—WYW151134

T. 42 N., R. 70 W., 6th PM, Wyoming,

Sec. 6: Lots 8-19, 20 (N½), 21 (N½), 22 (N½), 23 (N½);

Sec. 7. Lots 5 (S½), 6 (S½), 7 (S½), 8 (S½), 9 thru 14;

Sec. 8: Lots 1 (SW¼), 2 (S½), 3 (S½), 4 (S½), 5 thru 12;

Sec. 9: Lots 5 (SW¼), 11, 12, 14;

T. 43 N., R. 70 W., 6th PM, Wyoming,

Sec. 31: Lots 13 thru 20.

T. 42 N., R. 71 W., 6th PM, Wyoming,

Sec. 1: Lots 5, 6, 11 thru 13.

Containing 1,870.638 acres more or less.

On September 12, 2000, Antelope Coal Company applied for a maintenance coal lease for approximately 3,500 acres (approximately 292.5 million in-place tons of coal) adjacent to the Antelope Mine in Campbell and Converse Counties, Wyoming. The tract, which is referred to as the West Antelope LBA Tract, was assigned case number WYW151643. On June 27, 2001, Antelope Coal Company filed an application to modify the West Antelope LBA Tract. As currently filed, the tract includes approximately 3,542 acres and 293.9 million tons of in place coal reserves. According to the application, mining this coal would extend the life of the existing mine and the coal would be mined for sale to electrical power generating plants.

West Antelope—WYW151643

T. 40 N., R. 71 W., 6th PM, Wyoming,

Sec. 3: Lots 15 thru 18;

Sec. 4: Lots 5 thru 20;

Sec. 5: Lots 5 thru 7, 10 thru 15, 19, 20;

Sec. 9: Lot 1;

Sec. 10: Lots 3, 4;

T. 41 N., R. 71 W., 6th PM, Wyoming,

Sec. 28: Lots 1 thru 16;

Sec. 29: Lots 1 thru 16;

Sec. 32: Lots 1 thru 3, 6 thru 11, 14 thru 16;

Sec. 33: Lots 1 thru 16.

Containing 3,542.19 acres more or less.

Each of the mines adjacent to the LBA tracts described above (the North Antelope/Rochelle, Black Thunder, North Rochelle, and Antelope mines, respectively) has an approved mining and reclamation plan from the Land Quality Division of the Wyoming Department of Environmental Quality and an approved air quality permit from the Air Quality Division of the Wyoming Department of Environmental Quality. Each of these mines has previously acquired one or more maintenance coal leases using the LBA process.

The Powder River Regional Coal Team (RCT) reviewed these competitive applications at public meetings held on October 25, 2000, in Cheyenne, Wyoming, and May 30, 2002, in Casper, Wyoming. At the most recent meeting, the RCT recommended that BLM continue to process these LBAs.

The Draft Environmental Impact Statement (DEIS) was mailed to the public in February 2003. The EPA and the BLM each published a Notice of Availability in the Federal Register on February 7 and February 20, 2003, respectively. A formal public hearing on these applications was held, pursuant to 43 CFR 3425.4 at 7:00 P.M. MDT on March 4, 2003, at the Best Western Tower West Lodge, 109 N. U.S. Highway 14-16, Gillette, Wyoming. The purpose of the hearing was to solicit public comments on the DEIS, the fair market value, the maximum economic recovery, and the proposed competitive sale of the coal included in each of the proposed five tracts. The 60-day comment period on the DEIS ended on April 11, 2003.

The draft and final EIS analyze leasing each of the five tracts as applied for (described above) as a separate Proposed Actions. As part of the coal leasing process, BLM has identified and is evaluating other tract configurations for these tracts which add or subtract Federal coal to avoid bypassing coal or to increase competitive interest in the unleased Federal coal in this area. The tract configurations that BLM has identified for each tract are described and analyzed as alternatives in the EIS. The EIS also analyzes the alternative of rejecting each application to lease Federal coal s the No Action Alternative for each tract.

The agency-preferred alternatives are identified in the FEIS. The agency-preferred alternative varies for each tract, depending on which tract configuration is determined to best advance the public interest in avoiding bypassing Federal coal and increasing competitive interest in obtaining the fair market value of the Federal coal. The Proposed Actions and Alternatives that are considered in the EIS are in conformance with the “Approved Resource Management Plan for Public Lands Administered by the Bureau of Land Management Buffalo Field Office” (April 2001), the USDA Forest Service “Final EIS for the Northern Great Plains Revision” (May 2001) and the BLM “Platte River Resource Area Resource Management Plan” (1985).

The USDA Forest Service (Forest Service) is a cooperating agency in the preparation of the EIS. The surface of some of the land included for consideration for leasing in three of the tracts (NARO North, Little Thunder, and West Roundup) is National Forest System land administered by the Forest Service as part of the Thunder Basin National Grasslands.

The Office of Surface Mining Reclamation and Enforcement (OSM) is a cooperating agency in the preparation of this EIS. If the tracts are leased as maintenance tracts, each new lease must be incorporated into the existing mining and reclamation plan for the adjacent mine and the Secretary of the Interior must approve each revision to the MLA (Mineral Leasing Act) mining plan for each mine before the Federal coal in each tract can be mined. OSM is the Federal agency that would be responsible for recommending approval, approval with conditions, or disapproval of the revised MLA mining plans to the office of the Secretary of the Interior if any or all of these tracts are leased.

Eleven written comments were received during the comment period on the Draft EIS, and four were recorded at the public hearing. The issues that were identified in the comment letters and at the hearing included potential conflicts with existing conventional oil and gas coalbed methane development; potential cumulative impacts of increasing mineral development in the Powder River Basin; validity and currency of resource data; public access; potential impacts to threatened and endangered species and other species of concern; potential cumulative air quality impacts; and potential impacts of nitrogen oxide emissions resulting from blasting of coal and overburden.

A separate Record of Decision (ROD) will be prepared for each of the five LBA tracts being considered for leasing. Comments received on the FEIS will be considered during preparation of the RODs.

Comments, including names and street addresses of respondents, will be available for public review at the Bureau of Land Management, Casper Field Office, 2987 Prospector Drive, Casper, Wyoming, during regular business hours (8 a.m. to 4:30 p.m.), Monday through Friday, except holidays. Individual respondents may request confidentiality. If you wish to withhold your name or street address from public review or from disclosure under the Freedom of Information Act, you must state this prominently at the beginning of your written comment. Such requests will be honored to the extent allowed by law. All submissions from organizations or businesses, and from individuals identifying themselves as representatives or officials of organizations or businesses, will be made available for public inspection in their entirety.

Dated: October 23, 2003.
Alan L. Kesterke,
Associate State Director.

[FR Doc. 03-31836 Filed 12-23-03; 8:45 am]

BILLING CODE 4310-22-M